NUCLEAR WASTE TECHNICAL REVIEW BOARD

Board Meeting

Board meeting: May 15, 2007—Arlington, VA; The U.S. Nuclear Waste Technical Review Board will meet to discuss U.S. Department of Energy activities related to the possible development of a repository for spent nuclear fuel and high-level radioactive waste at Yucca Mountain in Nevada.

Pursuant to its authority under section 5051 of Public Law 100-203, Nuclear Waste Policy Amendments Act of 1987, the U.S. Nuclear Waste Technical Review Board will meet in Arlington, Virginia, on tuesday, May 15, 2007. The Board was created in the Nuclear Waste Policy Amendments Act of 1987 and charged with performing an independent review of the technical and scientific validity of U.S. Department of Energy (DOE) activities related to disposing of, packaging, and transporting spent nuclear fuel and high-level radioactive waste.

At the May meeting, the Board will discuss several topics, including the use of depleted uranium oxide, a drilling program carried out by Inyo County in California, waste package designs, DOE's saturated zone model, near-field chemistry, probabilistic volcanic hazards analysis, and Global Nuclear Energy Partnership.

A final meeting agenda will be available on the Board's Web site (www.nwtrb.gov) approximately one week before the meeting date. The agenda also may be obtained by telephone request at that time. The meeting will be open to the public, and opportunities for public comment will be provided.

The meeting will be held at the Crowne Plaza Hotel; 1480 Crystal Drive; Arlington, Virginia 22202; (tel) 703-416-1600; (fax) 703-416-1651.

The meeting will begin at 8 a.m. with an overview of the Yucca Mountain program. Presentations on the use of depleted uranium oxide as a chemical barrier, Inyo County's drilling program, and the second-generation waste package design will follow. After lunch, the Board will be briefed on waste streams and disposition options related to DOE's Global Nuclear Energy Partnership, Sandia National Laboratory's saturated zone model for Yucca Mountain, the potential near-field chemistry in repository tunnels, and waste package design and prototype development. An update on probabilistic volcanic hazards analysis will complete the day's agenda.

Time will be set aside at the end of the day for public comments. Those wanting to speak are encouraged to sign the “Public Comment Register” at the check-in table. A time limit may have to be set on individual remarks, but written comments of any length may be submitted for the record.

Transcripts of the meetings will be available on the Board's Web site, by e-mail, on computer disk, and on a library-loan basis in paper format from Davonya Barnes of the Board's staff no later than June 4, 2007.

A block of rooms has been reserved for meeting participants at the Crowne Plaza. When making a reservation, please state that you are attending the NWTRB meeting. Reservations should be made by April 21, 2007, to ensure receiving the meeting rate.

For more information, contact Karyn Severson, NWTRB External Affairs; 2300 Clarendon boulevard, Suite 1300; Arlington, VA 22201-3367; (tel) 703-235-4473; (fax) 703-235-4495.

Dated: April 11, 2007.
William D. Barnard,
Executive Director, Nuclear Waste Technical Review Board.

[FR Doc. 07-1876 Filed 4-13-07; 8:45 am]

BILLING CODE 6820-AM-M